DEPARTMENT OF HEALTH AND HUMAN SERVICES

Administration for Children and Families

[CFDA Number: [93.569]]

Announcement of the Intent To Award Three Supplements to Community Services Block Grant Award Recipients

AGENCY: Office of Community Services (OCS), Administration for Children and Families (ACF), Department of Health and Human Services (HHS).

ACTION: Notice of issuance of supplements.

SUMMARY: OCS announces the intent to award a supplement in the amount of up to $3.6 million ($1.2 million per year for 3 fiscal years at $400,000 per individual award) to three Community Services Block Grant (CSBG) award recipients under Notice of Funding Opportunity (NOFO): Regional Performance and Innovation Consortia (RPIC) (HHS-2019-ACF-OCS-ET-1582, HHS-2019-ACF-OCS-ET-1586, and HHS-2019-ACF-OCS-ET-1587). The purpose of the RPIC awards is to support robust regional training and technical (T/TA) strategies for the CSBG Network—states, territories, directly-funded tribes and tribal organizations, and CSBG-eligible entities, and state associations within the 10 ACF regions. The RPICs are designed to assist in meeting high organizational standards in the areas of consumer input and involvement, community engagement, community assessment, organizational leadership, board governance, strategic planning, human resource management, financial operations and oversight, and data and analysis. In addition, the RPICs identify, promote, and support multiyear T/TA efforts to ensure high-quality programs and services and impactful outcomes for individuals, families, and communities.

DATES: The proposed period of performance is September 30, 2023, to September 29, 2026.

FOR FURTHER INFORMATION CONTACT: Dr. Lanikque Howard, Ph.D., Director, Office of Community Services, 330 C Street SW, Washington, DC 20201. Telephone: (202) 740-5951; Email: lanikque.howard@acf.hhs.gov.

SUPPLEMENTARY INFORMATION: In Fiscal Year 2023, OCS published a total of 11 separate new competitive grant opportunities for the RPIC, each corresponding to a specific ACF region.¹ Each NOFO mandated that applicants must be physically located in the ACF region of their application. As the merit review process was initiated, OCS identified that Regions 3, 6, and 7 were not represented by eligible applicants due to their inadvertent error of applying for a different region's NOFO rather than their own. This supplement will enable the current award recipients to support and sustain the continuance of vital regional CSBG T/TA strategies and activities to align the period of performance, activities, timelines, and OCS oversight among all CSBG regional T/TA award recipients.

¹ Note: Due to the size of Region 4, OCS funds two RPICs in the region (4a and 4b).

OCS announces the intent to award the following supplement awards:

Recipient | Award amount
Maryland Association of Community Action Agencies, Annapolis, Maryland | $1,200,000
Oklahoma Association of Community Action Agencies, Inc., Edmond, Oklahoma | 1,200,000
Kansas Association of Community Action Program, Inc., Topeka, Kansas | 1,200,000

Statutory Authority: Sections 674(b)(2)(A) and 678A of the CSBG Act, as amended (42 U.S.C. 9903(b)(2)(A) and 9913).

Karen D. Shields,
Senior Grants Policy Specialist, Office of Grants Policy, Office of Administration.

[FR Doc. 2023-21779 Filed 9-28-23; 4:15 pm]

BILLING CODE 4184-XX-P